DEPARTMENT OF HOMELAND SECURITY

Coast Guard

33 CFR Part 117

[CGD08-07-035]

Drawbridge Operating Regulations; Gulf Intracoastal Waterway, Morgan City to Port Allen Alternate Route, Lower Grand River, Bayou Sorrel, LA

AGENCY: Coast Guard, DHS.

ACTION: Notice of temporary deviation from regulations.

SUMMARY: The Commander, Eighth Coast Guard District, has issued a temporary deviation from the regulation governing the operation of the State Route 75 (SR 75) pontoon span bridge across the Lower Grand River at mile 38.4, Gulf Intracoastal Waterway, Morgan City to Port Allen Alternate Route at Bayou Sorrel, Iberville Parish, Louisiana. This deviation provides for the bridge to remain closed to navigation for 24 consecutive hours to conduct scheduled maintenance to the drawbridge.

DATES: This deviation is effective from 7 a.m. on Tuesday, November 6, 2007 until 7 a.m. on Wednesday, November 7, 2007.

ADDRESSES: Materials referred to in this document are available for inspection or copying at the office of the Eighth Coast Guard District, Bridge Administration Branch, Hale Boggs Federal Building, Room 1313, 500 Poydras Street, New Orleans, Louisiana, 70130-3310 between 7 a.m. and 3 p.m., Monday through Friday, except Federal holidays. The telephone number is (504) 671-2128. The Bridge Administration Branch maintains the public docket for this temporary deviation.

FOR FURTHER INFORMATION CONTACT: Phil Johnson, Bridge Administration Branch, telephone (504) 671-2128.

SUPPLEMENTARY INFORMATION: The Louisiana Department of Transportation and Development has requested a temporary deviation in order to replace the entire winch and related operating mechanism of the SR 75 pontoon span bridge across the Lower Grand River, Gulf Intracoastal Waterway, Morgan City to Port Allen Alternate Route at Bayou Sorrel, Iberville Parish, Louisiana. Replacement of the winch is necessary for continued operation of the draw span of the bridge. This temporary deviation will allow the bridge to remain in the closed-to-navigation position from 7 a.m. on Tuesday, November 6, 2007 until 7 a.m. on Wednesday, November 7, 2007. During the closure period, the draw will not be able to open for emergencies. Currently, the draw opens on signal; except that, from about August 15 to about June 5 (the school year), the draw need not be opened from 6 a.m. to 7:30 a.m. Monday through Friday except holidays. The draw opens on signal at any time for an emergency aboard a vessel.

The bridge is a floating pontoon span bridge with no available navigational clearance in the closed-to-navigation position. Thus, vessels will not be able to transit through the bridge site when the bridge is closed. Navigation on the waterway consists of tugs with tows, fishing vessels and recreational powerboats. Due to prior experience, as well as coordination with waterway users, it has been determined that this closure will not have a significant effect on these vessels.

In accordance with 33 CFR 117.35(e), the drawbridge must return to its regular operating schedule immediately at the end of the designated time period. This deviation from the operating regulations is authorized under 33 CFR 117.35.

Dated: October 18, 2007.
David M. Frank,
Bridge Administrator.

[FR Doc. E7-21216 Filed 10-26-07; 8:45 am]

BILLING CODE 4910-15-P